DEPARTMENT OF HOMELAND SECURITY

U.S. Customs and Border Protection

Accreditation and Approval of Camin Cargo Control, Inc. (Richmond, CA), as a Commercial Gauger and Laboratory

AGENCY: U.S. Customs and Border Protection, Department of Homeland Security.

ACTION: Notice of accreditation and approval of Camin Cargo Control, Inc., as a commercial gauger and laboratory.

SUMMARY: Notice is hereby given, pursuant to CBP regulations, that Camin Cargo Control, Inc. (Richmond, CA), has been approved to gauge and accredited to test petroleum and certain petroleum products for customs purposes for the next three years as of March 15, 2018.

DATES: Effective—Camin Cargo Control, Inc., was accredited and approved as a commercial gauger and laboratory as of March 15, 2018. The next triennial inspection date will be scheduled for March 2021.

FOR FURTHER INFORMATION CONTACT: Mr. Stephen Cassata, Laboratories and Scientific Services Directorate, U.S. Customs and Border Protection, 1300 Pennsylvania Avenue NW, Suite 1500N, Washington, DC 20229, tel. 202-344-1060.

SUPPLEMENTARY INFORMATION: Notice is hereby given pursuant to 19 CFR 151.12 and 19 CFR 151.13, that Camin Cargo Control, Inc., 845 Marina Bay Parkway, STE 8, Richmond, CA 94804, has been approved to gauge and accredited to test petroleum and certain petroleum products for customs purposes, in accordance with the provisions of 19 CFR 151.12 and 19 CFR 151.13. Camin Cargo Control, Inc., is approved for the following gauging procedures for petroleum and certain petroleum products set forth by the American Petroleum Institute (API):

API Chapters | Title
3 | Tank Gauging.
7 | Temperature Determination.
8 | Sampling.
11 | Physical Properties Data.
12 | Calculations.
17 | Maritime Measurements.

Camin Cargo Control, Inc., is accredited for the following laboratory analysis procedures and methods for petroleum and certain petroleum products set forth by the U.S. Customs and Border Protection Laboratory Methods (CBPL) and American Society for Testing and Materials (ASTM):

CBPL No. | ASTM method | Title
27-01 | D287 | Standard Test Method for API Gravity of Crude Petroleum and Petroleum Products (Hydrometer Method).
27-02 | D1298 | Standard Test Method for Density, Relative Density (Specific Gravity), or API Gravity of Crude Petroleum and Liquid Petroleum Products by Hydrometer Method.
27-04 | D95 | Standard Test Method for Water in Petroleum Products and Bituminous Materials by Distillation.
27-05 | D4928 | Standard Test Method for Water in Crude Oils by Coulometric Karl Fischer Titration.
27-06 | D473 | Standard Test Method for Sediment in Crude Oils and Fuel Oils by the Extraction Method.
27-07 | D4807 | Standard Test Method for Sediment in Crude Oil by Membrane Filtration.
27-08 | D86 | Standard Test Method for Distillation of Petroleum Products.
27-11 | D445 | Standard Test Method for Kinematic Viscosity of Transparent and Opaque Liquids (and Calculation of Dynamic Viscosity).
27-13 | D4294 | Standard Test Method for Sulfur in Petroleum and Petroleum Products by Energy-Dispersive X-ray Fluorescence Spectrometry.
27-20 | D4057 | Standard Practice for Manual Sampling of Petroleum and Petroleum Products.
27-21 | D4177 | Standard Practice for the Automatic Sampling of Petroleum and Petroleum Products.
27-46 | D5002 | Standard Test Method for Density and Relative Density of Crude Oils by Digital Density Analyzer.
27-48 | D4052 | Standard Test Method for Density and Relative Density of Liquids by Digital Density Meter.
27-50 | D93 | Standard Test Methods for Flash-Point by Pensky-Martens Closed Cup Tester.
27-54 | D1796 | Standard Test Method for Water and Sediment in Crude Oil by Centrifuge Method (Laboratory Procedure).
27-58 | D5191 | Standard Test Method For Vapor Pressure of Petroleum Products (Mini Method).
N/A | D664 | Standard Test Method for Acid Number of Petroleum Products by Potentiometric Titration.
N/A | D4530 | Standard Test Method for Determination of Carbon Residue (Micro Method).
N/A | D5705 | Standard Test Method for Measurement of Hydrogen Sulfide in the Vapor Phase Above Residual Fuel Oils.

Anyone wishing to employ this entity to conduct laboratory analyses and gauger services should request and receive written assurances from the entity that it is accredited or approved by the U.S. Customs and Border Protection to conduct the specific test or gauger service requested. Alternatively, inquiries regarding the specific test or gauger service this entity is accredited or approved to perform may be directed to the U.S. Customs and Border Protection by calling (202) 344-1060. The inquiry may also be sent to cbp.labhq@dhs.gov. Please reference the website listed below for the current CBP Approved Gaugers and Accredited Laboratories List: http://www.cbp.gov/about/labs-scientific/commercial-gaugers-and-laboratories.

Dated: February 13, 2019.
Patricia Hawes Coleman,
Acting Executive Director, Laboratories and Scientific Services Directorate.

[FR Doc. 2019-03114 Filed 2-21-19; 8:45 am]

BILLING CODE 9111-14-P